DEPARTMENT OF VETERANS AFFAIRS

[OMB Control No. 2900-NEW]

Agency Information Collection Activity: VA Disaster Resilience Survey of Community Dwelling Veterans

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 18, 2017.

ADDRESSES: Submit written comments on the collection of information through Federal Docket Management System (FDMS) at www.Regulations.gov or to Brian McCarthy, Office of Regulatory and Administrative Affairs (10B4), Department of Veterans Affairs, 810 Vermont Avenue NW., Washington, DC 20420 or email to Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Pursuant to Section 3506(c)(2)(A) of the PRA.

Title: VA Disaster Resilience Survey of Community Dwelling Veterans; VA Form 10-21086(NR).

OMB Control Number: 2900-NEW.

Type of Review: New information collection request.

Abstract: The proposed study is being conducted by the Veterans Emergency Management Evaluation Center (VEMEC) of the U.S. Department of Veterans Affairs. The mission of VEMEC is to promote the health and social welfare of America's Veterans and the Nation by initiating and coordinating projects aimed at developing evidence-based practices for use in mitigating against, preparing for, responding to, and recovering from national emergencies and natural disasters. In so doing, VEMEC helps to ensure timely access to high-quality health care for our nation's veterans.

The proposed study will be a one-time study of all VA patients in the United States. We will survey a sample of Veterans who at the time of fielding received care from any VA healthcare system in the U.S. at least once in the past 24 months. Health status, socioeconomic status, and other factors can impact a Veteran's resiliency/vulnerability during major disaster.

Affected Public: Individuals and households.

Estimated Annual Burden: 905 hours.

Estimated Average Burden Per Respondent: 15 minutes.

Frequency of Response: One time.

Estimated Number of Respondents: 3,620.

By direction of the Secretary.
Cynthia Harvey-Pryor,
Department Clearance Officer, Office of Quality, Privacy and Risk, Department of Veterans Affairs.

[FR Doc. 2017-22662 Filed 10-18-17; 8:45 am]

BILLING CODE 8320-01-P